DEPARTMENT OF LABOR

Employment and Training Administration

Agency Information Collection Activities; Comment Request; Trade Adjustment Assistance (TAA) Efforts To Improve Outcomes

ACTION: Notice.

SUMMARY: The Department of Labor's (DOL's) Employment and Training Administration (ETA) is soliciting comments concerning a proposed extension for the authority to conduct the information collection request (ICR) titled, “Trade Adjustment Assistance (TAA) Efforts to Improve Outcomes.” This comment request is part of continuing Departmental efforts to reduce paperwork and respondent burden in accordance with the Paperwork Reduction Act of 1995 (PRA).

DATES: Consideration will be given to all written comments received by October 25, 2019.

ADDRESSES: A copy of this ICR with applicable supporting documentation, including a description of the likely respondents, proposed frequency of response, and estimated total burden, may be obtained free by contacting Robert Hoekstra, by telephone at 202-693-3522 (this is not a toll-free number), TTY 1-877-889-5627 (this is not a toll-free number), or by email at hoekstra.robert@dol.gov.

Submit written comments about, or requests for a copy of, this ICR by mail or courier to the U.S. Department of Labor, Employment and Training Administration, Office of Trade Adjustment Assistance, 200 Constitution Avenue NW, Room N-5428, Washington, DC 20210; by email: taa.reports@dol.gov; or by Fax 202-693-3584.

FOR FURTHER INFORMATION CONTACT: Robert Hoekstra by telephone at 202-693-3522 (this is not a toll-free number) or by email at hoekstra.robert@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

On June 28, 2015, the Trade Adjustment Assistance Reauthorization Act of 2015 was signed into law. Under Section 239(j)(1)(c) of Title II, Chapter 2 of the Trade Act of 1974, as amended (19 U.S.C. 2271 et seq.), the Secretary is required to collect “a description of efforts made to improve outcomes for workers . . .” In addition to mandatory annual reporting, the Department collects these descriptions on a quarterly basis in order to track progress of efforts to improve outcomes and speed the identification of new state practices.

The Office of Trade Adjustment Assistance (OTAA) is revising the ICR for Trade Activity Participant Report (TAPR) (OMB control number 1205-0392). This ICR removes the collection requirement for the individual record reporting that constituted the bulk of the collection burden, but retains the quarterly reporting requirement of “efforts made to improve outcomes”. Correspondingly, the collection title will be changed to “Trade Adjustment Assistance (TAA) Efforts to Improve Outcomes.” Section 239(j)(1)(c) of Title II, Chapter 2 of the Trade Act of 1974, as amended (19 U.S.C. 2271 et seq.) authorizes this information collection. This collection is being modified significantly as to no longer require the submission of individual participant records under the TAPR. The prior TAPR data constituted the bulk of the burden of this collection, reducing the estimated total burden from 18,500 hours to 104 hours.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0392.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Trade Adjustment Assistance (TAA) Efforts to Improve Outcomes.

Form: ETA-9173.

OMB Control Number: 1205-0392.

Affected Public: State Workforce Agencies.

Estimated Number of Respondents: 52.

Frequency: Quarterly.

Total Estimated Annual Responses: 208.

Estimated Average Time per Response: 0.5 hours based on estimated times provided by states who are currently providing this more limited collection.

Estimated Total Annual Burden Hours: 104 hours.

Total Estimated Annual Other Cost Burden: $0.

Authority: 44 U.S.C. 3506(c)(2)(A).

John Pallasch,
Assistant Secretary for Employment and Training, Labor.

[FR Doc. 2019-20743 Filed 9-24-19; 8:45 am]

BILLING CODE 4510-FN-P